DEPARTMENT OF DEFENSE

Department of the Navy

Board of Visitors, Marine Corps University; Notice of Federal Advisory Committee Meeting; Correction

AGENCY: Department of the Navy, DoD.

ACTION: Notice; correction.

SUMMARY: On Wednesday, September 11, 2013 (FR Doc. 2013-22138), the Department of the Navy published in the Federal Register, a notice to announce the semi-annual meeting of the Board of Visitors, Marine Corps University on Friday, October 4, 2013, from 8:30 a.m. to 3:30 p.m. (Open Session). Due to the extended government shutdown, the meeting time and location has been changed. This notice corrects the meeting time and location.

ADDRESSES: The meeting location has been moved to the Marine Corps University, 2076 South St., Breckinridge Hall, Room 186, Quantico, VA 22134

FOR FURTHER INFORMATION CONTACT: Members of the public wishing to attend the meeting should contact Dr. Kim Florich, Alternate Designated Federal Officer, 2076 South St., Breckinridge Hall, Room 186, Quantico, VA 22134; telephone: 703-432-4682; email: kimberly.florich@usmc.mil.

SUPPLEMENTARY INFORMATION: Pursuant to Federal statute and regulations (5 U.S.C. 552b and 41 CFR 102-3.140 through 102-3.165) and the availability of space, the meeting is open to the public from November 14, 2013 1:00 p.m. to 3:45 p.m. and November 15, 2013 from 8:00 a.m. to 1:30 p.m. Seating is on a first-come basis.

Meeting Announcement: Due to the lapse of appropriations, the Department of Defense cancelled the meeting of the Board of Visitors Marine Corps University on October 4, 2013. As a result, the Department of Defense was unable to provide appropriate notification as required by 41 CFR 102-3.150(a). Therefore, the Advisory Committee Management Officer for the Department of Defense, pursuant to 41 CFR 102-3.150(b), waives the 15-calendar day notification requirement.

Dated: October 21, 2013.
N.A. Hagerty-Ford,
Commander, Office of the Judge Advocate General, U.S. Navy, Federal Register Liaison Officer.

[FR Doc. 2013-25330 Filed 10-25-13; 8:45 am]

BILLING CODE 3810-FF-P